DEPARTMENT OF TRANSPORTATION

Federal Aviation Administration

14 CFR Part 39

[Docket No. FAA-2008-0497; Directorate Identifier 2007-NM-096-AD; Amendment 39-15629; AD 2008-16-11]

RIN 2120-AA64

Airworthiness Directives; McDonnell Douglas Model DC-8-61, DC-8-61F, DC-8-63, DC-8-63F, DC-8-71F, and DC-8-73F Airplanes

AGENCY: Federal Aviation Administration (FAA), DOT.

ACTION: Final rule.

SUMMARY: We are adopting a new airworthiness directive (AD) for certain McDonnell Douglas Model DC-8-61, DC-8-61F, DC-8-63, DC-8-63F, DC-8-71F, and DC-8-73F airplanes. For certain airplanes, this AD requires non-destructive testing (NDT) to detect cracks of the door jamb corners of the forward and aft service doors, and doing applicable related investigative and corrective actions. For certain other airplanes, this AD requires inspecting and repairing if necessary or replacing previously repaired door jamb corners with an applicable repair. This AD results from reports of numerous cases of cracks in the skin at the door jamb corners of the forward and aft service doors. We are issuing this AD to detect and correct fatigue cracking of door jamb corners of the forward and aft service doors, which could adversely affect the structural integrity of the airplane.

DATES: This AD is effective September 17, 2008.

The Director of the Federal Register approved the incorporation by reference of a certain publication listed in this AD as of September 17, 2008.

ADDRESSES: For service information identified in this AD, contact Boeing Commercial Airplanes, Long Beach Division, 3855 Lakewood Boulevard, Long Beach, California 90846, Attention: Data and Service Management, Dept. C1-L5A (D800-0024)

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION:

Discussion

We issued a notice of proposed rulemaking (NPRM) to amend 14 CFR part 39 to include an airworthiness directive (AD) that would apply to certain McDonnell Douglas Model DC-8-61, DC-8-61F, DC-8-63, DC-8-63F, DC-8-71F, and DC-8-73F airplanes. That NPRM was published in the Federal Register on May 6, 2008 (73 FR 24887). For certain airplanes, that NPRM proposed to require non-destructive testing (NDT) to detect cracks of the door jamb corners of the forward and aft service doors, and doing applicable related investigative and corrective actions. For certain other airplanes, that NPRM proposed to require inspecting and repairing if necessary or replacing previously repaired door jamb corners with an applicable repair.

Comments

We gave the public the opportunity to participate in developing this AD. We received no comments on the NPRM or on the determination of the cost to the public.

Conclusion

We reviewed the relevant data and determined that air safety and the public interest require adopting the AD as proposed.

Costs of Compliance

There are about 299 airplanes of the affected design in the worldwide fleet. This AD affects about 55 airplanes of U.S. registry. The testing takes about 1 work hour per airplane, at an average labor rate of $80 per work hour. Based on these figures, the estimated cost of the AD for U.S. operators is $4,400, or $80 per airplane, per testing cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-16-11 McDonnell Douglas: Amendment 39-15629. Docket No. FAA-2008-0497; Directorate Identifier 2007-NM-096-AD.

Effective Date

(a) This airworthiness directive (AD) is effective September 17, 2008.

Affected ADs

(b) As specified in paragraph (g) of this AD, this AD affects certain requirements of AD 93-01-15, amendment 39-8469.

Applicability

(c) This AD applies to McDonnell Douglas Model DC-8-61, DC-8-61F, DC-8-63, DC-8-63F, DC-8-71F, and DC-8-73F airplanes, certificated in any category; as identified in Boeing Alert Service Bulletin DC8-53A082, dated February 6, 2007.

Unsafe Condition

(d) This AD results from reports of numerous cases of cracks in the skin at the door jamb corners of forward and aft service doors. We are issuing this AD to detect and correct fatigue cracking of door jamb corners of the forward and aft service doors, which could adversely affect the structural integrity of the airplane.

Compliance

(e) You are responsible for having the actions required by this AD performed within the compliance times specified, unless the actions have already been done.

Testing, Inspecting, Repairing, and Related Investigative and Corrective Actions

(f) At the applicable compliance time and repeat intervals listed in Tables 1 through 5 inclusive of paragraph 1.E., “Compliance,” of Boeing Alert Service Bulletin DC8-53A082, dated February 6, 2007; except where “the service bulletin” specifies a compliance time after the date on the service bulletin, this AD requires compliance within the specified compliance time after the effective date of this AD: Do the actions specified in paragraph (f)(1), (f)(2), or (f)(3) of this AD, as applicable.

(1) For airplanes identified as Group 1, Configurations 1 and 2, in the service bulletin: Do the testing and related investigative and corrective actions by accomplishing all the applicable actions specified in the Accomplishment Instructions of the service bulletin.

(2) For airplanes identified as Group 1, Configuration 3, in the service bulletin: Inspect and repair discrepancies in accordance with a method approved by the Manager, Los Angeles Aircraft Certification Office (ACO), FAA.

(3) For airplanes identified as Group 1, Configuration 4, in the service bulletin: Do the actions specified in paragraph (f)(3)(i) or (f)(3)(ii) of this AD.

(i) Repair door jamb corners of the service door using a method approved in accordance with the procedures specified in paragraph (h) of this AD.

(ii) Replace the previously repaired door jamb corners with an applicable repair in accordance with the Accomplishment Instructions of the service bulletin.

Compliance With Certain Requirements of AD 93-01-15

(g) Accomplishment of the applicable actions required by paragraph (f) of this AD constitutes compliance with certain requirements of AD 93-01-15, as it pertains to the affected areas of principal structural elements 53.08.039 and 53.08.040 of McDonnell Douglas Report No. L26-011, “DC-8 Supplemental Inspection Document (SID),” dated December 1985.

Alternative Methods of Compliance (AMOCs)

(h)(1) The Manager, Los Angeles ACO, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane and 14 CFR 25.571, Amendment 45, and the approval must specifically refer to this AD.

Material Incorporated by Reference

(i) You must use Boeing Alert Service Bulletin DC8-53A082, dated February 6, 2007, to do the actions required by this AD, unless the AD specifies otherwise.

(1) The Director of the Federal Register approved the incorporation by reference of this service information under 5 U.S.C. 552(a) and 1 CFR part 51.

(2) For service information identified in this AD, contact Boeing Commercial Airplanes, Long Beach Division, 3855 Lakewood Boulevard, Long Beach, California 90846, Attention: Data and Service Management, Dept. C1-L5A (D800-0024).

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on July 23, 2008.
Ali Bahrami,
Manager, Transport Airplane Directorate, Aircraft Certification Service.

[FR Doc. E8-17743 Filed 8-12-08; 8:45 am]

BILLING CODE 4910-13-P